DEPARTMENT OF HEALTH AND HUMAN SERVICES

Centers for Disease Control and Prevention

[60Day-04-04KI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2004 State Medicaid Survey—New—National Center for Chronic Disease Prevention and Control (NCCDPHP), Centers for Disease Control and Prevention (CDC).

Background and Brief Description

The proposed 2004 State Medicaid Survey will assess State Medicaid Programs to determine the extent of coverage for tobacco-dependence treatment. Tobacco use is the leading preventable cause of death in the United States. One of the 2010 National Health Objectives is to increase insurance coverage of evidence-based treatment for nicotine dependence (i.e., Food and Drug Administration [FDA]-approved pharmacotherapies and total coverage of behavioral therapies in Medicaid programs) from 36 states to all 50 states and the District of Columbia. To increase both the use of treatment by smokers attempting to quit and the number of smokers who quit successfully, the Guide to Community Preventive Services recommends reducing the out-of-pocket cost of effective tobacco-dependence treatments (i.e., individual, group and telephone counseling and FDA-approved pharmacotherapies). The 2000 Public Health Service (PHS) Clinical Practice Guideline supports expanded insurance coverage for tobacco-dependence treatment.

In 2000, approximately 32 million low-income persons in the United States received their health insurance coverage through federally funded State Medicaid programs; approximately 11.5 million (36%) of these persons smoked. The amount and type of coverage for tobacco-dependence treatment offered by Medicaid has been reported for 1998 and annually from 2000-2003. In 2002 and 2003, surveys were funded by the Robert Wood Johnson Foundation (RWJF). RWJF will no longer be tracking this coverage; therefore, CDC proposes to fund the survey. CDC proposed to fund the survey from 2004-2010. The survey will allow CDC to continue to measure progress of State Medicaid Programs toward the 2010 National Health Objective and document changes in the provision of coverage toward reaching the Healthy People 2010 goal.

The objectives of the project are as follows:

• Conduct a study of all 50 states and the District of Columbia Medicaid Programs to determine coverage for tobacco dependence treatment (counseling and FDA-approved pharmacotherapies) and assess compliance with the PHS recommendations.

• Analyze and publish the data.

Medicaid recipients have approximately 50% greater smoking prevalence than the overall U.S. adult population, and they are disproportionately affected by tobacco-related disease and disability. Substantial action to improve coverage will be needed if the United States is to achieve the 2010 National Health Objective of 12% smoking prevalence among adults.

This project will provide an opportunity to assess the extent of coverage for tobacco-dependence treatment under Medicaid. In 2002, 36 states provided coverage for some FDA approved medications; however, only 10 states provided some form of coverage for counseling and only 2 states provided comprehensive coverage, counseling and medication. Fifteen states provided no coverage. This project will be conducted with a mailed request to State Medicaid directors to identify a knowledgeable person within their system to respond to the survey. The survey will be mailed to the identified individuals.

Respondents will be asked to submit a written copy of their Medicaid coverage policies. If responses are not received, individuals will receive a telephone follow-up. Respondents are mailed the survey that they completed the previous year and asked to make revisions if changes have occurred. If this is being done by the person who completed the survey the previous year, the response burden is reduced. If the questions are not answered or not answered clearly, follow-up is required which takes additional time. All 50 states plus the District of Columbia have reported in the past. There is no cost to respondents except the time to complete the survey.

Annualized Burden Table
Respondents | Number of respondents | Number of responses per respondent | Average burden per response (in hrs) | Total burden hours
State Medicaid Programs with Minimal Response | 35 | 1 | 15/60 | 9
State Medicaid Programs with Maximum Response | 16 | 1 | 1 | 16
Total | 51 |  |  | 25

Dated: September 14, 2004.
Alvin Hall,
Director, Management Analysis and Services Office, Centers for Disease Control and Prevention.

[FR Doc. 04-21170 Filed 9-20-04; 8:45 am]

BILLING CODE 4163-18-P